ADMINISTRATIVE CONFERENCE OF THE UNITED STATES

Committees on Administration & Management, Collaborative Governance, and Judicial Review

ACTION: Notice of public meetings.

SUMMARY: Notice is hereby given of public meetings of three committees of the Assembly of the Administrative Conference of the United States (ACUS). Each committee will meet to discuss recommendations for consideration by the full Conference. Complete details regarding each committee's meeting, related research reports, how to attend (including information about remote access and obtaining special accommodations for persons with disabilities), and how to submit comments to the committee can be found in the “Research” section of the ACUS Web site, at http://www.acus.gov.

Comments may be submitted by e-mail to Comments@acus.gov, with the name of the relevant committee in the subject line, or by postal mail to “[Name of Committee] Comments” at the address given below.

ADDRESSES: The meetings will be held at 1120 20th Street, NW., Suite 706 South, Washington, DC 20036.

FOR FURTHER INFORMATION CONTACT: Designated Federal Officer for the individual committee, ACUS, 1120 20th Street, NW., Suite 706 South, Washington, DC 20036; Telephone 202-480-2080.

SUPPLEMENTARY INFORMATION:

Committee on Administration & Management

The Committee on Administration & Management will meet to discuss a draft recommendation concerning ethics standards for government contractor employees.

Date: Monday, April 18, 2011, from 2 p.m. to 5 p.m.

Designated Federal Officer: Scott Rafferty.

Committee on Collaborative Governance

The Committee on Collaborative Governance will meet to discuss a draft recommendation and a related report on “best practices” under and potential improvements to the Federal Advisory Committee Act, with particular focus on technological and social developments since the Act's passage.

Date: Thursday, April 21, 2011, from 1 p.m. to 3:30 p.m.

Designated Federal Officer: David M. Pritzker.

Committee on Judicial Review

The Committee on Judicial Review will meet to discuss a draft recommendation on potential solutions to the procedural trap posed by 28 U.S.C. 1500, a statute that regulates the Court of Federal Claims' jurisdiction over claims pending in other courts.

Date: Friday, April 29, 2011, from 1 p.m. to 4 p.m.

Designated Federal Officer: Reeve T. Bull.

Dated: March 29, 2011.
Jonathan R. Siegel,
Director of Research & Policy.

[FR Doc. 2011-7750 Filed 3-31-11; 8:45 am]

BILLING CODE 6110-01-P